DEPARTMENT OF DEFENSE

Office of the Secretary

[Docket ID DOD-2012-OS-0017]

Proposed Collection; Comment Request

AGENCY: Defense Logistics Agency, DoD.

ACTION: Notice.

SUMMARY: In compliance with Section 3506(c)(2)(A) of the Paperwork Reduction Act of 1995, the Defense Logistics Agency announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 16, 2012.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Defense Logistics Agency Headquarters, Attn: Ms. Beverly Williams, DS-Q, 8725 John J. Kingman Rd., Ft. Belvoir, VA 22060-6221, or call (703) 767-7665.

Title; Associated Form; and OMB Number: Physical Fitness Facility/Recreation Center Membership and Use Records; OMB Control Number 0704-TBD.

Needs and Uses: To collect facility usage data to prepare monthly metrics and data management reports; to register applicants for classes; to notify users of future events or cancellations in cases of emergency; and to develop workplace wellness programs based on customer needs.

Affected Public: Individuals include those who use DLA-managed Physical Fitness Facilities and Recreation Centers. These include retired military, and families and guests of military and civilian employees, and contractor personnel.

Annual Burden Hours: 333.

Number of Respondents: 1,000.

Responses per Respondent: 1.

Average Burden per Response: 0.33 hours (20 minutes).

Frequency: On occasion.

SUPPLEMENTARY INFORMATION:

Summary of Information Collection

The information will consist of name, duty number and emergency contact and other facility use data. The data collected will be used to contribute to metric analysis for budget processes and quality of life programming.

Dated: February 9, 2012.
Aaron Siegel,
Alternate OSD Federal Register Liaison Officer, Department of Defense.

[FR Doc. 2012-3345 Filed 2-13-12; 8:45 am]

BILLING CODE 5001-06-P